Proclamation 10193 of April 30, 2021

National Mental Health Awareness Month, 2021

By the President of the United States of America

A Proclamation

Mental health is essential to our overall health, and the importance of attending to mental health has become even more pronounced during the COVID-19 pandemic, which has not only negatively impacted many people's mental health but has also created barriers to treatment.

Millions of adults and children across America experience mental health conditions, including anxiety, depression, schizophrenia, bipolar disorder, and post-traumatic stress disorder. Nearly one in five Americans lives with a mental health condition. Those living with mental health conditions are our family, friends, classmates, neighbors, and coworkers. Before the Affordable Care Act, insurance companies could discriminate against people based on pre-existing conditions, including mental health conditions, and mental health and substance use services were not covered by insurance. Still discrimination against those with mental health conditions in our society remains, and can make it difficult to find and reach out for help. While our Nation has made progress in promoting mental health services, many communities face pervasive barriers in accessing mental health care.

The COVID-19 pandemic and the resulting economic crisis has impacted the mental health of millions of Americans. Isolation, sickness, grief, job loss, food instability, and loss of routines has increased the need for mental health services. At the same time, the need to protect people from COVID-19 has made it more challenging for people to access mental health services, and harder for providers to deliver this care.

Even before COVID-19, the prevalence of mental health conditions in our Nation was on the rise. In 2019, nearly 52 million adults experienced some form of mental illness. Recent data from the Centers for Disease Control and Prevention indicates that one in four adults reported experiencing symptoms of an anxiety or depressive disorder in February 2021—a significant increase from the prior year. Youth mental health is also worsening, with nearly 10 percent of America's youth reporting severe depression. We must treat this as the public health crisis that it is and reverse this trend.

Too many people with mental health needs feel they have nowhere to turn. Suicide is the tenth leading cause of death in the United States and the second leading cause of death for our Nation's youth today. Suicide rates are disproportionately high among Black youth, and LGBTQI+ persons are at disproportionate risk of death by suicide as well as suicidal ideation, planning, and attempts. My Administration is committed to advancing suicide prevention best practices and improving non-punitive crisis response. Even as we build and enhance existing systems for prevention and response within communities, immediate assistance is available for those in need of help by calling the National Suicide Prevention Lifeline at 1-800-273-TALK or by calling 1-800-662-HELP.

My Administration is committed to ensuring that people living with mental health conditions are treated with compassion, respect, and understanding. We must also address the disparities that underserved communities, especially communities of color, face and work to ensure that everyone has access to affordable, quality, and evidence-based mental health care.

As President, I know that we can and must address these critical issues, especially for those who have shouldered the burden of standing on the front lines in responding to the pandemic. That is why the American Rescue Plan includes substantial investments to promote mental health among the health care workforce. We are also building on the progress made through the 21st Century Cures Act by integrating mental health and addiction treatment into primary care settings, schools, and homes.

My Administration is focused on building an improved, expanded system of care for the mental health needs of adults and children. This will require an increase in the number of mental health professionals. Building on a program in the American Rescue Plan, I have requested $1 billion in funding to expand the number of school-based mental health professionals, including school psychologists and counselors to address the mental health needs of students. The American Rescue Plan also delivered $3 billion for substance use and mental health care block grants. These funds also ensure that States provide pathways to prevention, intervention, treatment, and recovery services—especially for underserved communities. The American Rescue Plan also included $420 million in funding to support Certified Community Behavioral Health Clinics to expand access to high-quality, evidence-based behavioral health services. Certified Community Behavioral Health Clinics are also committed to involving peers and families, who are essential to mental health recovery.

My Administration is committed to ensuring that everyone knows that they are not alone, that help exists, and that we will provide the mental health support needed to heal, recover, and thrive.

NOW, THEREFORE, I, JOSEPH R. BIDEN JR., President of the United States of America, by virtue of the authority vested in me by the Constitution and the laws of the United States, do hereby proclaim May 2021 as National Mental Health Awareness Month. I call upon citizens, government agencies, organizations, healthcare providers, and research institutions to raise mental health awareness and continue helping Americans live longer, healthier lives.

IN WITNESS WHEREOF, I have hereunto set my hand this thirtieth day of April, in the year of our Lord two thousand twenty-one, and of the Independence of the United States of America the two hundred and forty-fifth.

[FR Doc. 2021-09574

Filed 5-4-21; 8:45 am]

Billing code 3295-F1-P